DEPARTMENT OF COMMERCE

Economics and Statistics Administration

Bureau of Economic Analysis Advisory Committee

AGENCY: Bureau of Economic Analysis, Commerce.

ACTION: Notice of public meeting.

SUMMARY: Pursuant to the Federal Advisory Committee Act (Public Law 92-463, as amended by Public Law 94-409, Public Law 96-523, and Public Law 97-375), we are giving notice of a meeting of the Bureau of Economic Analysis Advisory Committee. The meeting's agenda is as follows: 1. Presentation of the results and recommendations arising from the Brookings Institutions' Workshops on Output and Productivity Measurement in the Service Sector. 2. Discussion of new price measures that might be integrated into the national accounts, such as those for security dealers and semiconductors. 3. Review of the North American Industry Classifications System (NAICS) implementation schedule as it affects BEA. 4. Brief discussion of the treatment of consumer durables in the national accounts. 5. Brief presentation of alternatives for the treatment of the statistical discrepancy. 6. Discussion of topics for future agendas.

DATES: On Friday, May 11, 2001, the meeting will begin at 9:15 a.m. and adjourn at approximately 4 p.m.

ADDRESSES: The meeting will take place at BEA, 2nd floor, Conference Room C&D, 1441 L Street NW., Washington, DC 20230.

FOR FURTHER INFORMATION CONTACT: J. Steven Landefeld, Director, Bureau of Economic Analysis, U.S. Department of Commerce, Washington, DC 20230; telephone: 202-606-9600

Public Participation: This meeting is open to the public. Because of security procedures, anyone planning to attend the meeting must contact Colleen Ryan of BEA at 202-606-9603 in advance. The meeting is physically accessible to people with disabilities. Requests for sign language interpretation or other auxiliary aids should be directed to Colleen Ryan at 202-606-9603.

SUPPLEMENTARY INFORMATION: The Committee was established on September 2, 1999, to advise the Bureau of Economic Analysis (BEA) on matters related to the development and improvement of BEA's national, regional, and international economic accounts. This will be the Committee's third meeting.

Dated: March 12, 2001.
J. Steven Landefeld,
Director, Bureau of Economic Analysis.

[FR Doc. 01-6661 Filed 3-16-01; 8:45 am]

BILLING CODE 3510-06-P